ENVIRONMENTAL PROTECTION AGENCY

[EPA-HQ-OPPT-2010-0408; FRL-8825-5]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from March 1, 2010 to April 23, 2010, consists of the PMNs pending or expired, and the notices of commencement to manufacture a new chemical that the Agency has received under TSCA section 5 during this time period.

DATES: Comments identified by the specific PMN number or TME number, must be received on or before July 9, 2010.

ADDRESSES: Submit your comments, identified by docket identification (ID) number EPA-HQ-OPPT-2010-0408, by one of the following methods:

• Federal eRulemaking Portal: http://www.regulations.gov. Follow the on-line instructions for submitting comments.

• Mail: Document Control Office (7407M), Office of Chemical Safety and Pollution Prevention (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2010-0408. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2010-0408. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management Division (7407M), Office of Chemical Safety and Pollution Prevention Environmental Protection Agency, 1200 Pennsylvania Ave., NW., Washington, DC 20460-0001; telephone number: (202) 564-8951; fax number: (202) 546-8955; e-mail address: mudd.bernice@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from March 1, 2010 to April 23, 2010, consists of the PMNs pending or expired, and the notices of commencement to manufacture a new chemical that the Agency has received under TSCA section 5 during this time period.

III. Receipt and Status Report for PMNs

This status report identifies the PMNs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 100 Premanufacture Notices Received From: 03/01/10 to 04/23/10
Case No. | Received Date | Projected Notice End Date | Manufacturer/Importer | Use | Chemical
P-10-0253 | 03/01/10 | 05/29/10 | CBI | (G) Thermoset molding compound; Nondispersive use | (G) Methacrylate ester capped aromatic ether polymer
P-10-0254 | 03/01/10 | 05/29/10 | Piedmont Chemical Industries I, LLC. | (S) Ultra violet curable wood coatings; ultra violet curable metal coatings | (S) 2-propenoic acid, 2-methyl-, 2-hydroxyethyl ester, reaction products with dicyclopentadiene, 5-isocyanato-1-(isocyanatomethyl)-1,3,3-trimethylcyclohexane, maleic anhydride and 2-methyl-1,3-propanediol
P-10-0255 | 03/01/10 | 05/29/10 | Piedmont Chemical Industries I, LLC | (S) Ultra violet curable wood coatings; ultra violet curable metal coatings | (S) 2-propenoic acid, 2-hydroxyethyl ester, reaction products with dicyclopentadiene, 5-isocyanato-1-(isocyanatomethyl)-1,3,3-trimethylcyclohexane, maleic anhydride and 2-methyl-1,3-propanediol
P-10-0256 | 03/01/10 | 05/29/10 | CBI | (S) Coupling agent for plastics; coupling agent for rubbers | (S) Titanium, Bu alc. 2-ethyl-1-hexanol oleate stearate complexes
P-10-0257 | 03/01/10 | 05/29/10 | CBI | (S) Polyurethane elastomer | (S) 1,4-butanediol, polymer with 2,4-diisocyanato-1-methylbenzene and .alpha.-hydro-.omega.-hydroxypoly[oxy(methyl-1,2-ethanediyl)]
P-10-0258 | 03/01/10 | 05/29/10 | CBI | (G) Pigment additive | (G) Sulfonated heteropolycycle
P-10-0259 | 03/01/10 | 05/29/10 | CBI | (G) Pigment additive | (G) Sulfonated heteropolycycle
P-10-0260 | 03/02/10 | 05/30/10 | H.B. Fuller | (G) Industrial adhesive | (G) Isocyanate-functional polyurethane prepolymer
P-10-0261 | 03/02/10 | 05/30/10 | H.B. Fuller | (G) Industrial adhesive | (G) Isocyanate-functional polyurethane prepolymer
P-10-0262 | 03/02/10 | 05/30/10 | Piedmont Chemical Industries I, LLC | (S) Ultra violet curable inks | (S) Fatty acids, C18-unsaturated, dimers, hydrogenated, bi[3-[(1-oxo-2-propen-1-yl)oxy]-2,2-bis[[(1-oxo-2-propen-1-yl)oxy]methyl]propyl] esters
P-10-0263 | 03/04/10 | 06/01/10 | Marubeni Specialty Chemicals Inc. | (G) Polymeric component | (G) Substituted cyclomethacrylate
P-10-0264 | 03/04/10 | 06/01/10 | CBI | (G) Monomer | (G) Methacrylate ester of fatty alcohol alkoxylate
P-10-0265 | 03/04/10 | 06/01/10 | CBI | (S) Coatings for car leather; water borne industrial coatings like wood | (G) Hexamethylenediisocyanate homopolymer, alkyl-oxy-terminated
P-10-0266 | 03/04/10 | 06/01/10 | CBI | (S) Antioxidant for plastic articles | (G) Propanoic acid, alkylthio, (1,1-dimethylethyl) - [[alkyl-4-hydroxy-2-alkylphenyl]thio]alkylphenyl ester
P-10-0267 | 03/05/10 | 06/02/10 | CBI | (G) Laundry detergent component | (G) Acrylate copolymer
P-10-0268 | 03/05/10 | 06/02/10 | CBI | (G) Laundry detergent component | (G) Acrylate copolymer
P-10-0269 | 03/09/10 | 06/06/10 | CBI | (S) Extrusion of tubing systems; injection molding of special applications | (G) Polymer of aromatic dicarboxylic acid and alkane diamine
P-10-0270 | 03/10/10 | 06/07/10 | CBI | (G) Raw material | (G) Aromatic polyester
P-10-0271 | 03/12/10 | 06/09/10 | CBI | (G) Material for electronic parts | (G) Alkyl bis(methoxymethyl)hydrocarbomocycle
P-10-0272 | 03/10/10 | 06/07/10 | Robertet, Inc. | (S) As an odoriferous component of fragrance compounds | (S) Oils, Macrocystis pyrifera
P-10-0273 | 03/12/10 | 06/09/10 | CBI | (G) Treatment for textiles | (G) Perfluoroalkylethyl methacrylate copolymer
P-10-0274 | 03/12/10 | 06/09/10 | CBI | (G) Adhesive component | (G) 1,1′-methylenebis[isocyanatobenzene], polymer with polyester polyols and a polyether polyol
P-10-0275 | 03/15/10 | 06/12/10 | CBI | (G) Material for electronic parts | (G) Substituted polyhydro-oxo-naphthalene sulfonate with alkylidene polycarbomonocycle
P-10-0276 | 03/15/10 | 06/12/10 | CBI | (G) Antiswelling agent for clay | (G) Polyethylene polyammonium salt
P-10-0277 | 03/15/10 | 06/12/10 | CBI | (G) Material for electronic parts | (G) [5,5′-biisobenzofuran]-1,1′,3,3′-tetrone, polymer with 1,4-benzenediamine, 4,4′-oxybis[benzenamine] and alkylaminosiloxane
P-10-0278 | 03/15/10 | 06/12/10 | CBI | (G) Material for electronic parts | (G) Polycarbomono cyclic sulphonium camphosulphonate
P-10-0279 | 03/15/10 | 06/12/10 | CBI | (G) Material for electronic parts | (G) Substituted polyhydro-oxo-naphthalene sulfonate with alkylidyne polycarbomocycle
P-10-0280 | 03/15/10 | 06/12/10 | CBI | (G) Adhesion promoter, corrosion inhibitor | (G) Aluminum B-alanine complex
P-10-0281 | 03/17/10 | 06/14/10 | CBI | (G) Component of foam | (G) Fatty acid polymer with aliphatic diol and aromatic diacid
P-10-0282 | 03/17/10 | 06/14/10 | CBI | (G) Component in injection molded parts | (G) Maleated nylon graft copolymer
P-10-0283 | 03/17/10 | 06/14/10 | CBI | (G) Component in injection molded parts | (G) Maleated nylon graft copolymer
P-10-0284 | 03/17/10 | 06/14/10 | CBI | (G) Chemical intermediate | (G) Boron ester
P-10-0285 | 03/17/10 | 06/14/10 | Syngenta Crop Protection, Inc. | (S) Intermediate | (S) Benzoic acid, 3-amino-2-mercapto-
P-10-0286 | 03/19/10 | 06/16/10 | Instrumental polymer technologies, LLC. | (G) Resin for coatings | (G) Hydroxyl-terminated aliphatic polycarbonate
P-10-0287 | 03/19/10 | 06/16/10 | Instrumental Polymer Technologies, LLC. | (G) Resin for coatings | (G) Hydroxyl-terminated aliphatic polycarbonate
P-10-0288 | 03/19/10 | 06/16/10 | Instrumental Polymer Technologies, LLC. | (G) Resin for coatings | (G) Hydroxyl-terminated aliphatic polycarbonate
P-10-0289 | 03/18/10 | 06/15/10 | Instrumental Polymer Technologies, LLC. | (G) Resin for coatings | (G) Hydroxyl-terminated aliphatic polycarbonate
P-10-0290 | 03/22/10 | 06/19/10 | Reichhold, Inc. | (S) Base resin for gel coat compounds (used in FRP applications) | (G) Methacrylate terminated polyester
P-10-0291 | 03/23/10 | 06/20/10 | FRX Polymers, Inc. | (G) FRX phosphonate oligomer is a non-halogenated flame retardant additive that addresses the need to replace current commercial bromide-containing flame retardant additives that are being phased out due to environmental regulation. Flame retardants are required to meet fire safety standards in order to reduce flammability of combustible materials. | (S) CA index name of respective polymer: Phosphonic acid, p-methyl-, diphenyl ester, polymer with 4,4′(1methylethylidene)bis[phenol]
P-10-0292 | 03/23/10 | 06/20/10 | CBI | (G) Lubricant oil additive | (G) Alkanoic acid, mixed esters with dipentaerythritol and pentaerythritol
P-10-0293 | 03/23/10 | 06/20/10 | CBI | (G) Additive | (G) Methacrylate copolymer
P-10-0294 | 03/24/10 | 06/21/10 | Scott bader, Inc. | (G) Resin or resin additive | (G) Unsaturated urethane acrylate
P-10-0295 | 03/25/10 | 06/22/10 | CBI | (G) Component of foam | (G) Fattay acid polymer with aliphatic diol and aromatic diacid
P-10-0296 | 03/26/10 | 06/23/10 | 3M | (G) Fluorinated chemical intermediate | (G) Fluorinated carboxylic acid
P-10-0297 | 03/26/10 | 06/23/10 | 3M | (G) Fluorinated chemical intermediate | (G) Fluorinated alcohol
P-10-0298 | 03/26/10 | 06/23/10 | 3M | (G) Fluorinated intermediate | (G) Fluorinated carboxylate ester
P-10-0299 | 03/26/10 | 06/23/10 | 3M | (G) Fluorinated intermediate | (G) Perfluoroalkoxyalkyl vinyl ether
P-10-0300 | 03/26/10 | 06/23/10 | 3M | (G) Fluorinated emulsifier | (G) Fluorinated surfactant
P-10-0301 | 03/25/10 | 06/22/10 | Robertet, Inc. | (S) As an odoriferous component of fragrance compounds | (S) Oils, laminaria digitata
P-10-0302 | 03/29/10 | 06/26/10 | CBI | (G) Destructive use in fuels | (G) Fatty acid amine salt
P-10-0303 | 03/30/10 | 06/27/10 | CBI | (G) Constituent in ink formulation | (G) Heterocycle, disubstituted, salt with anion (1:1)
P-10-0304 | 03/30/10 | 06/27/10 | CBI | (S) Acid dye for coloring anodized aluminum | (G) Product is a trivalent chrome complex of an azo dye
P-10-0305 | 03/29/10 | 06/26/10 | CBI | (G) Paint component | (S) Acetic acid ethenyl ester, polymer with ethane and methyl 2-methyl-2-propenoate
P-10-0306 | 03/30/10 | 06/27/10 | CBI | (S) Binder for car repair putty | (G) Unsaturated polyester resin
P-10-0307 | 03/30/10 | 06/27/10 | Dubois Chemicals Inc. | (S) Industrial boiler treatment | (G) Powdered amine
P-10-0308 | 03/30/10 | 06/27/10 | Oleon Americas, Inc. | (G) Industrial hydraulic fluid | (S) Fatty acids, C16-18 and C18-unsaturated, mixed esters with adipic acid and trimethylolpropane
P-10-0309 | 03/30/10 | 06/27/10 | CBI | (S) Acid dye for coloring anodized aluminum | (G) Product is a trivalent chrome complex of an azo dye
P-10-0310 | 03/30/10 | 06/27/10 | Futurefuel Chemical Company | (S) Monomer in alkyl resins; monomer in surfactants solvent; antifreeze in paints and coatings; coalecing aid - inks and coatings | (S) Glycerol formal 5-hydroxy-1,3-dioxane
P-10-0310 | 03/30/10 | 06/27/10 | Futurefuel Chemical Company | (S) Monomer in alkyl resins; monomer in surfactants solvent; antifreeze in paints and coatings; coalecing aid - inks and coatings | (S) Glycerol formal isomeric mixture of 4-hydroxymethyl-1,3-dioxolane
P-10-0311 | 04/01/10 | 06/29/10 | CBI | (S) Release agent | (G) Alkyl alkoxy siloxane
P-10-0312 | 04/01/10 | 06/29/10 | Akzo Nobel Coatings Inc. | (S) Dispersant for the preparation of stir-in pigments in car paints | (S) 2,5-furandione, telomer with ethenylbenzene and (1-methylethyl)benzenem imides with polyethylene-polypropylene glycol 2-aminopropyl me ether
P-10-0313 | 04/01/10 | 06/29/10 | ICI Performance Products LP | (S) Opacifying pigment for ceramic whiteware | (S) Diphosphoric acid, calcium salt (1:1)
P-10-0314 | 03/23/10 | 06/20/10 | Sasol Chemicals North America, LLC | (S) Printing ink component, acts as gallant, rheological modifier; for industrial use only; no known consumer uses | (S) Aluminum, (2-butanolato)bis[ethyl-3-(oxo-, .kappa.,O)butanoato-,.kappa.,O′]-
P-10-0315 | 03/31/10 | 06/28/10 | CBI | (S) Release agent | (G) Me alkyl siloxane
P-10-0316 | 03/31/10 | 06/28/10 | CBI | (G) Monomer for polymer for textile treatment additive | (G) Perfluoroalkyl acrylate
P-10-0317 | 03/31/10 | 06/28/10 | CBI | (G) Paper treatment additive | (G) Fluoroalkyl acrylate copolymer
P-10-0318 | 04/02/10 | 06/30/10 | 3M Company | (S) Dispersant | (G) Propylene oxide ligand
P-10-0319 | 04/02/10 | 06/30/10 | CBI | (G) Polyamide phenol for coatings, open, non-dispersive use | (G) Aromatic halogenated acid, polymer with a halogenated aromatic diamine and an aromatic phenolic amine
P-10-0320 | 04/02/10 | 06/30/10 | CBI | (G) Open, non-dispersive use | (G) Aromatic dianhydride, polymer with an aromatic diamine and an aliphatic unsaturated ester
P-10-0321 | 04/02/10 | 06/30/10 | CBI | (G) Concrete additive | (G) Modified phenol resin
P-10-0322 | 04/02/10 | 06/30/10 | CBI | (G) Concrete additive | (G) Modified phenol resin
P-10-0323 | 03/15/10 | 06/12/10 | Canon U.S.A., Inc. | (G) Additive for ink jet printing ink | (G) Alkyl methacrylate polymer with branched benzene, alkyl acrylate, hydroxyalkyl methacrylate, methacrylic acid and substituted methacrylate, alkaline metal salt
P-10-0324 | 04/01/10 | 06/29/10 | CBI | (S) Curing agent or accelerator for epoxy resin | (G) Urea, N,N′-(methyl-1,3-phenylene)bis[N′,N′-bis[3-(polyalkyleneamino]-, compound with formaldehyde polymer with phenol
P-10-0325 | 04/05/10 | 07/03/10 | The Goodyear Tire and Rubber Company | (S) Polymerization catalyst | (G) Neodymium ziegler-natta catalyst
P-10-0326 | 04/02/10 | 06/30/10 | CBI | (G) Site-limited intermediate | (S) Propane, 1,1,1,2,3,3-hexafluoro-
P-10-0327 | 04/02/10 | 06/30/10 | CBI | (G) Site-limited intermediate | (S) 1-propene, 1,2,3,3,3-pentafluoro-
P-10-0328 | 04/05/10 | 07/03/10 | H.B. Fuller | (G) Industrial adhesive | (G) 2-propenoic acid, 2-mehyl-, alkyl ester, polymer with ethenyl acetate, N-(hydroxymethyl)-2-propenamide, methyl 2-methyl-2-propenoate and alkyl methacrylate
P-10-0329 | 04/05/10 | 07/03/10 | CBI | (G) Finishing agent for textile goods | (S) Hexadecanamide, N-[3-(hexadecyloxy)-2-hydroxypropyl]-N-(2-hydroxyethyl)-
P-10-0330 | 04/05/10 | 07/03/10 | CBI | (G) Component of fragrance mixture for highly dispersive applications. | (G) Trimethylpentene oxymethylpropyl ester of cyclopropanecarboxylic acid
P-10-0331 | 04/05/10 | 07/03/10 | Reichhold, Inc. | (S) Carrier resin for coatings | (G) Amine salt of vegetable oil, polymer with hydroxy substituted carboxylic acid, aliphatic diisocyanate, tetra hydroxy alkane and polyol
P-10-0332 | 04/06/10 | 07/04/10 | CBI | (S) Polyol for rigid foam | (G) Amino alcohol substituted phenol
P-10-0333 | 04/06/10 | 07/04/10 | CBI | (S) Industrial monomer to be polymerized or reacted. | (G) 1,4:3,6-dianhydrohexitol-, reaction produc6s with chloro-oxopropoxy-benzoic acid and hydroxy-methoxybenzoic acid
P-10-0334 | 04/06/10 | 07/04/10 | CBI | (S) Industrial monomer to be polymerized or reacted. | (G) Benzoic acid, (acryloxy)alkoxy-, 1,1′-(methylphenylene) ester
P-10-0335 | 04/06/10 | 07/04/10 | CBI | (G) Metal coating(surface treatment) | (G) Polyester type urethane resin
P-10-0336 | 04/06/10 | 07/04/10 | CBI | (G) Reactive diluent for unsaturated polyester and vinyl ester | (G) Acrylated polyester oligomer
P-10-0337 | 04/06/10 | 07/04/10 | CBI | (G) Reactive diluent for unsaturated polyester and vinyl ester | (G) Methacrylated polyester oligomer
P-10-0338 | 04/06/10 | 07/04/10 | CBI | (G) Laundry detergent component | (G) Acrylate copolymer
P-10-0339 | 04/06/10 | 07/04/10 | CBI | (G) Laundry detergent component | (G) Acrylate copolymer
P-10-0340 | 04/05/10 | 07/03/10 | Henkel adhesives | (S) Hot melt adhesive | (S) Fatty acids, C18-unsaturated, dimers, polymers with ethylenediamine, piperazine, polypropylene glycol diamine, sebacic acid and tall-oil fatty acids
P-10-0341 | 04/05/10 | 07/03/10 | CBI | (S) Crosslinker for polymers | (G) Polyether polycarbodiimide
P-10-0342 | 04/06/10 | 07/04/10 | Bimax Inc. | (S) Intermediate for production of dispersant polymer for paint colorants | (G) Poly 2-ethylhexyl methacrylate
P-10-0343 | 04/09/10 | 07/07/10 | Marubeni Specialty Chemicals Inc. | (G) Polymeric component | (G) Substituted cyclomethacrylate
P-10-0344 | 04/05/10 | 07/03/10 | CBI | (G) Plasticizing component of a two part coating | (G) Phenoxy alkyl ether
P-10-0345 | 04/16/10 | 07/14/10 | CBI | (G) Printing ink additive | (G) Hexanoic acid, 6-[[2-[[5-[[2,7-dihydro-3-methyl-2,7-dioxo-1-(3-sulfobenzoyl)-heteropolycycle-6-yl]amino]-2,4-disulfophenyl]amino]-2-oxoethyl]amino]-, ammonium sodium salt (1:?:?)
P-10-0346 | 04/16/10 | 07/14/10 | CBI | (G) Printing ink additive | (G) Copper, phthalic anhydride-2,3-pyridinedicarboxylic acid-urea reaction products complexes, aminosulfonylsulfo[[2-[[4-[(2-sulfoethyl)amino]-6-[(4-sulfophenyl)amino]-monoheterocycle-2-yl]amino]ethyl]amino]sulfonyl derivates, sodium salts
P-10-0347 | 04/19/10 | 07/17/10 | CBI | (S) Electrical insulating varnish for motors, generators, transformers | (G) Modified polyester
P-10-0348 | 04/16/10 | 07/14/10 | Dow Chemical Company | (S) Chemical intermediate | (G) Cyclic nitrile aldehyde
P-10-0349 | 04/16/10 | 07/14/10 | Dow Chemical Company | (S) Chemical intermediate | (G) Cyclic nitrile aldehyde
P-10-0350 | 04/16/10 | 07/14/10 | Dow Chemical Company | (S) Chemical intermediate | (G) Cyclic nitrile aldehyde
P-10-0351 | 04/16/10 | 07/14/10 | Zeon Chemicals L.P. | (S) Automotive seals and gaskets | (G) Modified acrylonitrile, butadiene polymer, hydrogenated

In Table II of this unit, EPA provides the following information (to the extent that such information is not claimed as CBI) on the Notices of Commencement to manufacture received:

II. 57 Notices of Commencement From: 03/01/10 to 04/23/10
Case No. | Received Date | Commencement Notice End Date | Chemical
P-03-0481 | 03/08/10 | 01/28/10 | (S) 5,2,6-(iminomethenimino)-1H-imidazo[4,5-b]pyrazine, octahydro-1,3,4,7,8,10-hexanitro-
P-03-0568 | 03/08/10 | 01/28/10 | (S) 5,2,6-(iminomethenimino)-1H-imidazo[4,5-b]pyrazine, 1,3,8,10-tetraacetyloctahydro-
P-03-0789 | 03/22/10 | 03/09/10 | (G) Derivatized butyl ester photoinitiator
P-06-0393 | 03/18/10 | 02/10/10 | (G) Aliphatic urethane acrylate oligomer
P-06-0494 | 03/01/10 | 02/23/10 | (G) Fluoroalkyl methacrylate copolymer
P-06-0598 | 03/08/10 | 03/01/10 | (G) Polyester polyol urethane modified epoxy resin
P-06-0825 | 04/20/10 | 03/24/10 | (G) Oxepanone, polymer with dialkyl-alkanediol, alkyl-(hydroxyaalkyl)-alkanediol, carbocycle, isocyanato-(isocyanatoalkyll)-trialkyl-, alkanoic acid, hydroxy-(hydroxyalkyl)-alkyl-, alkylamine, N,N-dialkyl-, aminoalkyl-trialkylcarbocyclicamine, and alkyldiamine
P-06-0832 | 04/16/10 | 03/31/10 | (S) Fatty acids, palm-oil, me esters
P-06-0833 | 04/16/10 | 03/19/10 | (S) Fatty acids, peanut-oil, me esters
P-06-0834 | 04/16/10 | 03/22/10 | (S) Fatty acids, linseed-oil, me esters
P-07-0328 | 03/05/10 | 02/12/10 | (G) NCS 2: Substituted phenol
P-07-0425 | 04/09/10 | 03/16/10 | (G) MDI polyether prepolymer
P-07-0690 | 04/12/10 | 04/02/10 | (G) Polyester amine adduct
P-08-0125 | 03/30/10 | 03/05/10 | (G) Methacrylate ester of a polyester from an aromatic dicarboxylate and alkyl polyols
P-08-0138 | 04/14/10 | 03/30/10 | (S) Carbonotrithioic acid, bis(phenylmethyl)ester
P-08-0165 | 04/16/10 | 05/21/08 | (G) Extract of tea
P-08-0561 | 04/16/10 | 11/25/08 | (G) Cycloalkyl piperonyl ether
P-08-0647 | 03/08/10 | 02/23/10 | (S) Extractives and their physically modified derivatives. Jasminum sambac. Oils, jasmine, jasminum sambac
P-08-0672 | 03/26/10 | 03/02/10 | (G) Polyester polyurethane aqueous dispersion
P-09-0058 | 03/23/10 | 03/04/10 | (G) Alkenylsuccinicanhydride derivative
P-09-0179 | 04/07/10 | 04/02/10 | (G) Fatty acids, dimers, polymers with dihydroxyfunctional monocarboxylic acid, alkane diol, alkyl isocyanate, alkanediol, aromatic anhydride, glycol ether and alkanetriol, compounds with amino alcohol
P-09-0269 | 03/11/10 | 03/08/10 | (G) Crosslinked polystyrene resin with chelating bispicolylamine groups
P-09-0332 | 04/21/10 | 04/08/10 | (G) Phosphonic acid ester
P-09-0371 | 03/03/10 | 01/31/10 | (G) Organic acid metal halide complex
P-09-0372 | 03/08/10 | 02/23/10 | (S) Oils, spartium junceum
P-09-0381 | 03/17/10 | 02/19/10 | (G) Polycarbonate diol
P-09-0418 | 03/22/10 | 03/01/10 | (G) Surface modified aluminum hydroxide
P-09-0463 | 03/18/10 | 02/14/10 | (G) Salt of polymer of methylenebis[isocyanatocarbomonocycle],alkanepolyols and amine derivatives
P-09-0500 | 03/02/10 | 01/23/10 | (G) 1,4-benzenedisulfonic acid, 2,2′-[1,2-ethenediylbis[(3-sulfo-4,1-phenylene)imino[6-[bis(alkanol)amino]-1,3,5-triazine-4,2-diyl]imino]]bis-, hexasodium salt
P-09-0525 | 04/06/10 | 03/18/10 | (G) Hydroxyamino aryl amine
P-09-0526 | 04/06/10 | 03/18/10 | (G) Hydroxyamino aryl triamine
P-09-0562 | 03/01/10 | 02/16/10 | (G) Polymer of acrylamido alkyl propane sulfonic acid sodium ammonium salt and two acrylic monomers
P-09-0597 | 03/08/10 | 02/23/10 | (S) Oils, cypress, cypressus funebris
P-09-0634 | 04/05/10 | 03/16/10 | (S) Phenol, 4-(1,1-dimethylethyl)-2-nitro-
P-09-0647 | 03/05/10 | 02/05/10 | (G) Fatty acids, C18-unsaturted, dimers, polymers with glycidyl alkanoate, 4-oxopentanoic acid and trimethylolpropane
P-09-0649 | 04/16/10 | 04/08/10 | (G) 2,5-furandione, polymer with alkene, alkyl ester, substituted imidazoline amide
P-09-0650 | 03/08/10 | 02/18/10 | (G) Dimer fatty acid based polyester polyurethane
P-10-0035 | 04/16/10 | 03/17/10 | (G) Sodium carboxylate
P-10-0041 | 03/12/10 | 02/11/10 | (G) Polyether polyacid comb polymer
P-10-0051 | 03/17/10 | 03/10/10 | (S) Starch, 2-carboxyethyl 2-methyl-3-oxo-3-[[3-(trimethylammonio)propyl]amino]propyl ether, chloride
P-10-0053 | 04/02/10 | 03/26/10 | (G) Halogenated aromatic amine
P-10-0074 | 04/19/10 | 03/23/10 | (G) Butanoic acid, 3-oxo-, 2-[(2-methyl-1-oxo-2-propen -1-yl)oxy]ethyl ester, polymer with butyl 2-methyl-2-propenoate, ethenylbenzene, 2-ethylhexyl 2-propenoate, methyl 2-methyl-2-propenoate, phosphoric acid, di-ester with hydroxy ethyl methacrylate and 2-(phosphonooxy) ethyl 2-methyl-2-propenoate
P-10-0075 | 04/06/10 | 03/11/10 | (G) Brominated aromatic polyether polyester
P-10-0077 | 03/11/10 | 03/04/10 | (G) Linear hydroxy funtional polyester
P-10-0078 | 03/08/10 | 02/27/10 | (G) Capped polyurethane adduct
P-10-0082 | 03/18/10 | 02/27/10 | (S) 1,2,3-propanetriol, homopolymer, hexadecanoate octadecanoate
P-10-0085 | 03/16/10 | 03/05/10 | (G) Bismuth salt of lactic acid
P-10-0100 | 03/25/10 | 03/21/10 | (G) Polyester amine compound
P-10-0102 | 04/01/10 | 03/24/10 | (S) Oils, jasmine, jasminum sambac
P-10-0103 | 04/19/10 | 03/26/10 | (S) Fatty acids, C18-unsaturated, di-me esters, hydrogenated, polymers with diethylene glycol, 1,6-diisocyanato-2,2,4-trimethylhexane, 1,6-diisocyanato-2,4,4-trimethylhexane, 2-heptyl-3,4-bis(9-isocyanatononyl)-1-pentylcyclohexane, 1,1′-methylenebis[4-isocyanatobenzene], 2-oxepanone and tricyclodecanedimethanol, 2-hydroxyethyl acrylate-blocked
P-10-0140 | 04/16/10 | 03/31/10 | (G) Urethane modified epoxy resin
P-10-0142 | 04/12/10 | 04/01/10 | (G) Furan, 2-(1,1-dimethylethyl)-2, 5-dihydro-alkyl substituted
P-10-0143 | 04/08/10 | 04/02/10 | (G) Hydroxyl-terminated aliphatic polycarbonate
P-10-0147 | 04/19/10 | 04/03/10 | (G) Alkoxylated alkylamine
P-10-0149 | 04/19/10 | 04/07/10 | (G) Alkoxylated alkylamine salt
P-10-0165 | 04/19/10 | 04/09/10 | (G) Polyester resin
P-99-0332 | 03/18/10 | 03/01/10 | (G) Urethane modified aromatic isocyanate

List of Subjects

Environmental protection, Chemicals, Premanufacturer notices.

Dated: May 14, 2010.
Darryl S. Ballard,
Acting Director, Information Management Division, Office of Pollution Prevention and Toxics.

[FR Doc. 2010-13627 Filed 6-8-10; 8:45 am]

BILLING CODE 6560-50-S